Title 3—

The President

Proclamation 7584 of August 23, 2002

Women's Equality Day, 2002

By the President of the United States of America

A Proclamation

Today, American women enjoy unprecedented opportunities in business, education, politics, and countless other aspects of our society. Historically, however, women suffered grave inequalities and were denied some of the most fundamental benefits of citizenship.

Each year on August 26th, we mark the important anniversary of the day on which women gained the right to vote. In celebrating Women's Equality Day, we remember the brave and determined individuals who worked to ensure that all women have the opportunity to participate in our democracy. Their dedication to the suffrage movement improved our society, and continues to inspire women today.

When the first Women's Rights Convention was convened in Seneca Falls in 1848, women in the United States had limited financial, legal, and political power. In addition to being denied the right to vote, they also could not own property, control their wages, or claim custody of their children.

Courageous heroes like Carrie Chapman Catt, Alice Paul, Elizabeth Cady Stanton, and Susan B. Anthony refused to accept women's status, and began a determined struggle to gain suffrage for women. Leading active and vocal groups like the National American Woman Suffrage Association and the National Woman's Party, these women risked attack and arrest to organize marches, boycotts, and pickets, while mobilizing an influential lobbying force of millions. Finally, on August 26, 1920, the women's suffrage movement accomplished its goal through the ratification of the 19th Amendment to the Constitution, guaranteeing women the right to vote.

In Afghanistan, the Taliban used violence and fear to deny Afghan women access to education, health care, mobility, and the right to vote. Our coalition has liberated Afghanistan and restored fundamental human rights and freedoms to Afghan women, and all the people of Afghanistan. Young girls in Afghanistan are able to attend schools for the first time.

As we celebrate this day, I encourage all Americans to learn about our important achievements in equality. Looking to the future, we must remain diligent as we work to ensure the rights of all of our citizens, and to support those who struggle daily for life's basic liberties.

NOW, THEREFORE, I, GEORGE W. BUSH, President of the United States of America, by virtue of the authority vested in me by the Constitution and laws of the United States, do hereby proclaim August 26, 2002, as Women's Equality Day. I call upon the people of the United States to observe this day with appropriate programs and activities.

IN WITNESS WHEREOF, I have hereunto set my hand this twenty-third day of August, in the year of our Lord two thousand two, and of the Independence of the United States of America the two hundred and twenty-seventh.

B

[FR Doc. 02-22163

Filed 8-27-02; 8:45 am]

Billing Code 3195-01-P